FEDERAL RESERVE SYSTEM

Proposed Agency Information Collection Activities; Comment Request

AGENCY: Board of Governors of the Federal Reserve System.

ACTION: Notice, request for comment.

SUMMARY: The Board of Governors of the Federal Reserve System (Board) invites comment on a proposal to extend for three years, with revision, the Census of Finance Companies and Other Lenders and Survey of Finance Companies (FR 3033p and FR 3033s; OMB No. 7100-0277).

DATES: Comments must be submitted on or before March 13, 2026.

ADDRESSES: You may submit comments, identified by FR 3033p and FR 3033s, by any of the following methods:

• Agency website: https://www.federalreserve.gov/apps/proposals/. Follow the instructions for submitting comments, including attachments. Preferred Method.

• Mail: Benjamin W. McDonough, Deputy Secretary and Ombuds, Board of Governors of the Federal Reserve System, 20th Street and Constitution Avenue NW, Washington, DC 20551.

• Hand Delivery/Courier: Same as mailing address.

• Other Means: publiccomments@frb.gov. You must include the OMB number or the FR number in the subject line of the message.

Comments received are subject to public disclosure. In general, comments received will be made available on the Board's website at https://www.federalreserve.gov/apps/proposals/ without change and will not be modified to remove personal or business information including confidential, contact, or other identifying information. Comments should not include any information such as confidential information that would not be appropriate for public disclosure. Public comments may also be viewed electronically or in person in Room M-4365A, 2001 C St. NW, Washington, DC 20551, between 9 a.m. and 5 p.m. during Federal business weekdays.

Additionally, commenters may send a copy of their comments to the Office of Management and Budget (OMB) Desk Officer for the Federal Reserve Board, Office of Information and Regulatory Affairs, Office of Management and Budget, New Executive Office Building, Room 10235, 725 17th Street NW, Washington, DC 20503, or by fax to (202) 395-6974.

FOR FURTHER INFORMATION CONTACT: Federal Reserve Board Clearance Officer—Nuha Elmaghrabi—Office of the Chief Data Officer, Board of Governors of the Federal Reserve System, nuha.elmaghrabi@frb.gov, (202) 452-3884.

SUPPLEMENTARY INFORMATION: On June 15, 1984, OMB delegated to the Board authority under the Paperwork Reduction Act (PRA) to approve and assign OMB control numbers to collections of information conducted or sponsored by the Board. In exercising this delegated authority, the Board is directed to take every reasonable step to solicit comment. In determining whether to approve a collection of information, the Board will consider all comments received from the public and other agencies.

During the comment period for this proposal, a copy of the proposed PRA OMB submission, including the draft reporting form and instructions, supporting statement (which contains more detail about the information collection and burden estimates than this notice), and other documentation, will be made available on the Board's public website at https://www.federalreserve.gov/apps/reportingforms/review or may be requested from the agency clearance officer, whose name appears above. On the page displayed at the link above, you can find the supporting information by referencing the collection identifier, FR 3033p and FR 3033s. Final versions of these documents will be made available at https://www.reginfo.gov/public/do/PRAMain, if approved.

Request for Comment on Information Collection Proposal

The Board invites public comment on the following information collection, which is being reviewed under authority delegated by the OMB under the PRA. Comments are invited on the following:

a. Whether the proposed collection of information is necessary for the proper performance of the Board's functions, including whether the information has practical utility;

b. The accuracy of the Board's estimate of the burden of the proposed information collection, including the validity of the methodology and assumptions used;

c. Ways to enhance the quality, utility, and clarity of the information to be collected;

d. Ways to minimize the burden of information collection on respondents, including through the use of automated collection techniques or other forms of information technology; and

e. Estimates of capital or startup costs and costs of operation, maintenance, and purchase of services to provide information.

At the end of the comment period, the comments and recommendations received will be analyzed to determine the extent to which the Board should modify the proposal.

Proposal Under OMB Delegated Authority To Extend for Three Years, With Revision, the Following Information Collection

Collection title: Census of Finance Companies and Other Lenders and Survey of Finance Companies.

Collection identifier: FR 3033p and FR 3033s.

OMB control number: 7100-0277.

General description of collection: The FR 3033 information collection (the quinquennial) consists of the Census of Finance Companies and Other Lenders (FR 3033p), which the Board revised in May 2025, as well as the Survey of Finance Companies (FR 3033s), which the Board is revising at this time. The FR 3033p is the first part of a two-stage survey series, which has been conducted at a regular five-year interval since 1955. The second part of this information collection, the FR 3033s, collects balance sheet data on major categories of consumer and business credit receivables and major liabilities, along with income and expenses, and is used to gather information on the scope of the company's operations and loan and lease activities. In addition, questions were added to assess the current geographical penetration and online presence of finance companies. From the universe of finance companies determined by the FR 3033p, a stratified random sample of 3,000 finance companies will be drawn for the FR 3033s. This survey will be sent in April 2026 and will collect information as of December 31, 2025. The data collected from this voluntary survey will be used for two purposes: to benchmark the consumer and business finance series collected on the monthly Domestic Finance Company Report of Consolidated Assets and Liabilities (FR 2248; OMB No. 7100-0005) which in turn serves as an input to the following statistical releases: Finance Companies (G.20), Consumer Credit (G.19) and Financial Accounts of the United States (Z.1), and to increase the Federal Reserve's understanding of an important part of the financial system.

Proposed revisions: The Board proposes to revise the FR 3033s to improve clarity, simplify the form overall, and collect information on the activities of finance companies. The overall result is a net removal of seven items from the survey. The FR 3033p is not being revised as part of this clearance. The FR 3033s revisions, which would be effective for the April 2026 survey date, include:

A. Removals:

• Removing 5 real estate loan items (3.A.1.a through 3.A.3).

• Removing items 8.A and 8.B.

• Removing items 11.A and 11.B.

• Removing 3 questions, 13.A through 13.C, as they were special topic questions added for the 2021 survey.

B. Revisions:

• Revising general survey instructions and item descriptions for clarity.

• Revising the benchmark date to December 31, 2025.

• Revising any references to “capital leases” to “finance leases.” In lease accounting, under the ASC 842 standard, what was previously termed a capital lease is now referred to as a finance lease.

• Revising item 7.C to say “Notes, Bonds, Debentures, and Non-Recourse Debt.” This is a catch-all bucket for all other short- and long-term debt not elsewhere classified.

• Revising item 7.D to say “Debt Due to Affiliates.”

• Renumbering item 8.C to 8.

• Revising item 10.F to say “Marketing Cost (e.g., Advertising and Publicity)”. The term “marketing” can encompass a broader range of activities and costs and help align better with the 10K form.

• Revising Question 12 and renumbering it to 3.B.4.a so that it is placed next to the relevant item 3.B.4. It assesses the extent of offerings of consumer credit products by the finance company industry. This placement also makes it feasible to identify specialty finance companies and facilitate analysis of profitability at such companies.

3.B.4.a. If your company owns Other Consumer Loans, select all the types available:

❖ Mobile home loans [ ] Yes [ ] No

❖ Motor vehicle title loans [ ] Yes [ ] No

❖ Pawn loans [ ] Yes [ ] No

❖ Payday loans [ ] Yes [ ] No

C. Additions:

• Adding an item for “Real Estate Loans” in section 3.A as question 3.A.1. This positioning is the result of consolidating all the real estate loan items (3.A.1.a through 3.A.3), which are being removed.

• Adding a Question 11.A to assess the current geographical penetration of finance companies and help contribute to the understanding of the structure of finance companies.

11.A. Does your company extend loans and leases in only one state in the U.S.?

Yes

No, in more than one state

Don't know

• Adding a Question 11.B to assess the current online presence of finance companies. It would help shed light on the trends in the online expansion of finance companies. It would also contribute to the understanding of the implications of financial technology in this sector.

11.B. Does your company extend 50% or more of the loans and leases online?

Yes

No

Don't know

• Adding a Question 12 to quantify the extent of securitization by finance companies. Since the 2020 Quinquennial Survey of Finance Companies, information on the securitized off-book loans managed by finance companies is no longer being asked. Anecdotal evidence suggests that finance companies are increasingly relying on securitization as an alternative funding vehicle.

12. Did your company securitize loans in 2025?

Yes

No

Don't know

• Adding a Question 13 to assess respondents' interest in joining the FR 2248 panel of reporters. It would make panel participation easier and improve the panel recruitment effort and outcome.

13. A panel of finance companies report assets and liabilities to the Federal Reserve on a monthly or quarterly basis. The form they use is available for preview at https://www.federalreserve.gov/apps/reportingforms/Report/Index/FR_2248. The panel's frequent and timely information helps the industry participants and policymakers. Is your company interested in joining the panel?

Yes

No, not presently

Maybe

Frequency: Quinquennially.

Respondents: Finance companies.

Total estimated number of respondents: 8,800.

Total estimated change in burden: (244).

Total estimated annual burden hours: 3,512.

Board of Governors of the Federal Reserve System, January 8, 2026.
Erin M. Cayce,
Assistant Secretary of the Board.

[FR Doc. 2026-00390 Filed 1-9-26; 8:45 am]

BILLING CODE 6210-01-P